CORPORATION FOR NATIONAL AND COMMUNITY SERVICE

Sunshine Act Notice

The Board of Directors of the Corporation for National and Community Service gives notice of the following meeting:

Date and Time: Wednesday, June 13, 2007, 10:30 a.m.-12 p.m.

Place: Corporation for National and Community Service; 8th Floor; 1201 New York Avenue, NW., Washington, DC 20525.

Status: Open.

Matters to be Considered:

I. Chair's Opening Remarks.

II. Consideration of Prior Meeting's Minutes.

III. Committee Reports.

IV. Vote on Annual Update to Strategic Plan.

V. CEO Report.

VI. Public Comment.

Accommodations: Anyone who needs an interpreter or other accommodation should notify the Corporation's contact person by 5 p.m. on Monday, June 11, 2007.

Contact Person for More Information: Rachel Needle, Office of the CEO, Corporation for National and Community Service, 10th Floor, Room 10205, 1201 New York Avenue, NW., Washington, DC 20525. Phone (202) 606-6742. Fax (202) 606-3460. TDD: (202) 606-3472. E-mail: rneedle@cns.gov.

Dated: May 31, 2007.
Frank R. Trinity,
General Counsel.

[FR Doc. 07-2808 Filed 6-1-07; 1:34 pm]

BILLING CODE 6050-$$-P